DEPARTMENT OF COMMERCE

National Oceanic and Atmospheric Administration

50 CFR Part 635

[Docket No. 220523-0119; RTID 0648-XC206]

Atlantic Highly Migratory Species; Atlantic Bluefin Tuna Fisheries; Closure of the Harpoon Category Fishery

AGENCY: National Marine Fisheries Service (NMFS), National Oceanic and Atmospheric Administration (NOAA), Commerce.

ACTION: Temporary rule; closure.

SUMMARY: NMFS closes the Harpoon category fishery for large medium and giant (i.e., measuring 73 inches (185 cm) curved fork length or greater) Atlantic bluefin tuna (BFT) for the remainder of the 2022 Harpoon category fishing season, which ends November 15, 2022, and thus for the year. This closure applies to Atlantic Tunas Harpoon category (commercial) permitted vessels.

DATES: Effective 11:30 p.m., local time, September 5, 2022, through November 15, 2022.

FOR FURTHER INFORMATION CONTACT: Larry Redd, Jr., larry.redd@noaa.gov, 301-427-8503, Nicholas Velseboer, nicholas.velsboer@noaa.gov, 978-281-9260, or Ann Williamson, ann.williamson@noaa.gov, 301-427-8503.

SUPPLEMENTARY INFORMATION: Atlantic highly migratory species (HMS) fisheries, including BFT fisheries, are managed under the authority of the Atlantic Tunas Convention Act (ATCA; 16 U.S.C. 971 et seq.) and the Magnuson-Stevens Fishery Conservation and Management Act (Magnuson-Stevens Act; 16 U.S.C. 1801 et seq.). The 2006 Consolidated Atlantic HMS Fishery Management Plan (FMP) and its amendments are implemented by regulations at 50 CFR part 635. Section 635.27 divides the U.S. BFT quota recommended by the International Commission for the Conservation of Atlantic Tunas (ICCAT) and as implemented by the United States among the various domestic fishing categories, per the allocations established in the 2006 Consolidated HMS FMP and its amendments. NMFS is required under the Magnuson-Stevens Act to provide U.S. fishing vessels with a reasonable opportunity to harvest quotas under relevant international fishery agreements such as the ICCAT Convention, which is implemented domestically pursuant to ATCA.

Under § 635.28(a)(1), NMFS files a closure notice with the Office of the Federal Register for publication when a BFT quota is reached or is projected to be reached. Retaining, possessing, or landing BFT under a quota category is prohibited on or after the effective date and time of a closure notice for that category, for the remainder of the fishing year, until the opening of the relevant subsequent quota period, or until such date as specified.

Harpoon Category Closure

The baseline U.S. BFT quota is 1,316.14 mt (§ 635.27(a)). The current baseline quota for the Harpoon category is 47.8 mt. Effective July 19, 2022, NMFS transferred 30 mt from the Reserve category to the Harpoon category, resulting in an adjusted subquota of 78.7 mt for the Harpoon category and 276.7 mt for the Reserve category (87 FR 43447, July 21, 2022).

As of September 1, 2022, reported landings for the Harpoon category total approximately 70.8 mt. Based on these landings data, as well as average catch rates and anticipated fishing conditions, NMFS projects that the adjusted Harpoon category quota of 78.7 mt will be reached shortly. Therefore, retaining, possessing, or landing large medium or giant (i.e., measuring 73 inches (185 cm) curved fork length or greater) BFT by persons aboard vessels permitted in the Atlantic tunas Harpoon category must cease at 11:30 p.m. local time on September 5, 2022. The Harpoon category BFT fishery will be closed for the remainder of the Harpoon category season, which ends November 15, 2022, and thus for the year. The Harpoon category will reopen automatically on June 1, 2023, for the 2023 fishing season. This action applies to Atlantic Tunas Harpoon category (commercial) permitted vessels, and is taken consistent with the regulations at § 635.28(a)(1).

Monitoring and Reporting

NMFS will continue to monitor the BFT fisheries closely. Dealers are required to submit landing reports within 24 hours of a dealer receiving BFT. Late reporting by dealers compromises NMFS' ability to implement actions in a timely manner such as quota and retention limit adjustment, as well as closures, and may result in enforcement actions. Additionally, and separate from the dealer reporting requirement, Harpoon category vessel owners are required to report the catch of all BFT retained or discarded dead within 24 hours of the landing(s) or end of each trip, by accessing www.hmspermits.noaa.gov, using the HMS Catch Reporting app, or calling 888-872-8862 (Monday through Friday from 8 a.m. until 4:30 p.m.).

Depending on the level of fishing effort and catch rates of BFT, NMFS may determine that additional adjustments are necessary to ensure available subquotas are not exceeded or to enhance scientific data collection from, and fishing opportunities in, all geographic areas. If needed, subsequent adjustments will be published in the Federal Register. In addition, fishermen may call the Atlantic Tunas Information Line at (978) 281-9260, or access www.hmspermits.noaa.gov, for updates on quota monitoring and inseason adjustments.

Classification

NMFS issues this action pursuant to section 305(d) of the Magnuson-Stevens Act. This action is required by 50 CFR part 635, which was issued pursuant to section 304(c), and is exempt from review under Executive Order 12866.

The Assistant Administrator for NMFS finds that pursuant to 5 U.S.C. 553(b)(B), there is good cause to waive prior notice of, and an opportunity for public comment on, for the following reasons:

The regulations implementing the 2006 Consolidated HMS FMP and amendments provide for inseason retention limit adjustments and fishery closures to respond to the unpredictable nature of BFT availability on the fishing grounds, the migratory nature of this species, and the regional variations in the BFT fishery. Providing for prior notice and an opportunity to comment is impracticable and contrary to the public interest. This fishery is currently underway and delaying this action could result in BFT landings exceeding the Harpoon category quota. For all of the above reasons, there is good cause under 5 U.S.C. 553(d) to waive the 30-day delay in effectiveness.

Authority: 16 U.S.C. 971 et seq. and 1801 et seq.

Dated: September 1, 2022.
Jennifer M. Wallace,
Acting Director, Office of Sustainable Fisheries, National Marine Fisheries Service.

[FR Doc. 2022-19325 Filed 9-2-22; 11:15 am]

BILLING CODE 3510-22-P